DEPARTMENT OF THE INTERIOR

Bureau of Indian Affairs

Shakopee Mdewakanton Sioux Community—Liquor Ordinance To Allow for On-Sale Liquor Transactions

AGENCY: Bureau of Indian Affairs, Interior.

ACTION: Notice.

SUMMARY: This notice publishes the Shakopee Mdewakanton Sioux Community—Liquor Ordinance to Allow for On-Sale Liquor Transactions (Ordinance). The Ordinance regulates and controls the sale, consumption and possession of liquor within the Shakopee Mdewakanton Sioux Community's Indian country. This Ordinance will increase the ability of the tribal government to control the distribution and possession of liquor within its Indian country and at the same time will provide an important source of revenue and strengthening of the tribal government and the delivery of tribal services.

DATES: Effective Date: This Act is effective as of October 11, 2012.

FOR FURTHER INFORMATION CONTACT: David Christensen, Tribal Operations Officer, Midwest Regional Office, Bureau of Indian Affairs, Norman Pointe II, 5600 West American Boulevard, Bloomington, MN 55437, Telephone (612) 725-4554; Fax (612) 713-4401; or De Springer, Office of Indian Services, 1849 C Street NW., MS/4513/MIB, Washington, DC 20240; Telephone (202) 513-7626; Fax (202) 208-5113.

SUPPLEMENTARY INFORMATION: Pursuant to the Act of August 15, 1953; Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Shakopee Mdewakanton Sioux Community Business Council adopted the Liquor Ordinance to Allow for On-Sale Liquor Transactions, by Business Council Resolution No. 08-15-12-01, on August 15, 2012.

This notice is published in accordance with the authority delegated by the Secretary of the Interior to the Assistant Secretary—Indian Affairs. I certify that the Business Council duly adopted the Liquor Ordinance to Allow for On-Sale Liquor Transactions on August 15, 2012.

Dated: October 5, 2012.
Donald E. Laverdure,
Acting Assistant Secretary—Indian Affairs.

The Shakopee Mdewakanton Sioux Community Liquor Ordinance to Allow for On-Sale Liquor Transactions shall read as follows:

Section I. Title

This Ordinance shall be known as the Shakopee Mdewakanton Sioux Community On-Sale Liquor Ordinance. This Ordinance is intended to replace and supersede the Shakopee Mdewakanton Sioux Community Resolution and Ordinance Providing for On-Sale Transactions of Intoxicating Beverages enacted by the Shakopee Mdewakanton Sioux Community General Council on September 21, 1983 and published in the Federal Register on April 10, 1984. It is enacted pursuant to Article V, § 1(h) of the Community Constitution.

Section II. Purpose

The purpose is to authorize, regulate and control the sale and serving of on-sale alcoholic beverages within the territory of the Shakopee Mdewakanton Sioux Community in accordance with federal law, the laws of the Tribe and the laws of the State of Minnesota.

Section III. Definitions

A. “Business Council” shall mean the body composed of the members of the Tribe's Business Council, duly elected and serving in accordance with the provisions of the Constitution of the Tribe.

B. “General Council” shall mean the governing body of the Tribe, in accordance with the provisions of the Constitution of the Tribe.

C. “License” shall mean permission to sell liquor for consumption at a Tribally-owned property located within the jurisdiction of the Shakopee Mdewakanton Sioux Community regardless of Reservation status which is issued in accordance with the provisions of this Ordinance.

D. “Licensed premises” shall mean: (1) Locations where Tribal gaming or gaming-related activity is authorized and where the Tribal Gaming Enterprise may be authorized to sell liquor if such sales have been authorized by the Shakopee Mdewakanton Sioux Community Gaming Ordinance; (2) designated locations authorized by this Ordinance other than by subsection (1); or (3) gaming or non-gaming locations on other Tribally-owned property.

E. “Liquor” shall mean any alcoholic beverage.

F. “Non-gaming Location” shall mean those areas of the Reservation or under the jurisdiction of the Tribe where gaming is not authorized. A non-gaming location shall include areas within a Tribal Gaming Enterprise not designated by the Gaming Commission as gaming space within a Tribal Gaming Enterprise location.

G. “On-sale” shall mean the sale of liquor for consumption on licensed premises only.

H. “Tribe” shall mean the Shakopee Mdewakanton Sioux Community, a federally recognized Indian Tribe organized under Section 16 of the Indian Reorganization Act of 1934.

I. “Tribal Gaming Enterprise” shall mean the Tribal department created by Tribal Ordinance and delegated the responsibility to operate and conduct bingo, the sale of pull tabs, gaming in general and the conduct of other games of chance, including but not limited to video games of chance, blackjack, card games, and any other lawful games of chance and to oversee the Tribe's gaming and gaming-related activity.

J. “Tribal Gaming Location” shall mean those areas operated and overseen by the Tribal Gaming Enterprise where gaming is authorized and conducted on the Shakopee Mdewakanton Sioux Community Reservation.

Section IV. Business Council Oversight Authority and Reporting Requirements

A. The Business Council of the Tribe shall oversee liquor licensing, sales, and operations on Tribally-owned property located within the jurisdiction of the Shakopee Mdewakanton Sioux Community regardless of Reservation status.

B. All on-sale liquor operations conducted by any Tribally authorized entity on Tribally-owned property within the jurisdiction of the Shakopee Mdewakanton Sioux Community regardless of Reservation status shall report at least annually to the General Council on all on-sale liquor operations.

Section V. Licenses

An annual license for on-sale liquor may be issued only to: (1) The Tribal Gaming Enterprise if it has received authorization as set forth in Section III(D)(1); or (2) a Tribal enterprise provided for in III(D)(3);

A. Any on-sale liquor operation authorized by this Ordinance, including authorization for the Tribal Gaming Enterprise, must apply on behalf of each individual location within the Tribe's jurisdiction for the on-sale liquor license and no sale shall be allowed unless the location has been duly licensed.

B. Licenses shall be for the term of one year, running from the date of issuance through December 31 of the calendar year.

C. Application procedure:

1. A Tribal enterprise including the Tribal Gaming Enterprise, if so authorized, shall complete an application form as provided by the Business Council. The application form shall require details, including but not limited to, the exact location or locations intended to become licensed premises.

2. The Business Council shall be authorized to issue a license for the sale of alcohol for consumption at the following locations: (a) The amphitheater; (b) the Meadows Golf Course; and (c) any areas not designated by the Gaming Commission as gaming space within a Gaming Enterprise location.

3. The Business Council may issue an on-sale liquor license if and when it is determined that all applicable Tribal and Federal requirements are satisfied.

Section VI. Operation Under License

A. A license issued hereunder shall authorize on-sale operations for the sale and consumption of liquor.

B. Plan of Operation:

1. Prior to any sale of liquor, an on-sale liquor operation, other than the Tribal Gaming Enterprise, and those locations identified in Section V (C)(2) above, must submit a specific and detailed plan of operation, including information required by Section V(C)(1) above, for approval by the General Council. No sales shall occur until the General Council has approved the plan. Any alteration of the plan of operation, including any changes regarding locations of alcohol sales and consumption, will require approval from the General Council.

2. If the Tribal Gaming Enterprise has been duly authorized to sell liquor, it shall submit the required plan to the Shakopee Gaming Enterprise Board of Directors for approval.

C. Pursuant to federal law requirements, any on-sale liquor operation must conform its operations to those applicable laws of the State of Minnesota relating to the sale or possession or consumption of alcoholic beverages as required by the applicable Minnesota Statutes Annotated.

D. Any and all on-sale transactions and consumption of liquor shall be confined to licensed premises.

E. All authorized on-sale and consumption liquor operations must keep complete and accurate records of inventory and sales, and provide such information in its report to the General Council.

F. The Business Council may suspend or revoke a license under this Ordinance for violation of any of the terms of this Ordinance; provided that an applicant shall be given notice and an opportunity to request a hearing before the Business Council prior to the suspension or revocation.

Section VII. Sovereign Immunity

Nothing contained in this Ordinance is intended to nor does it in any way limit, alter, restrict, or waive the Tribe's sovereign immunity.

Section VIII. Severability

If any part of this Ordinance shall be found inoperable by operation of law, all surviving parts of this Ordinance shall remain in effect.

Section IX. Jurisdiction

The Tribal Court of the Shakopee Mdewkanton Sioux Community shall have jurisdiction over disputes arising from this law. Such jurisdiction shall be exclusive to the Tribal Court of the Shakopee Mdewakanton Sioux Community.

Section X. Secretarial Approval

This law shall become effective when it is certified by the Secretary of Interior and published in the Federal Register.

[FR Doc. 2012-25025 Filed 10-10-12; 8:45 am]

BILLING CODE 4310-4J-P